DEPARTMENT OF HEALTH AND HUMAN SERVICES

Substance Abuse and Mental Health Services Administration (SAMHSA)

Center for Mental Health Services; Center for Substance Abuse Prevention; Center for Substance Abuse Treatment; Substance Abuse and Mental Health Services Administration, HHS; Notice of Technical Assistance Workshops

Notice is hereby given of the following workshops for the provision of technical assistance to potential applicants for SAMHSA grants.

The Substance Abuse and Mental Health Services Administration's (SAMHSA's) Center for Mental Health Services (CMHS), Center for Substance Abuse Prevention (CSAP) and Center for Substance Abuse Treatment (CSAT), are offering a series of three, two-day regional Technical Assistance Workshops for prospective applicants. These workshops will be conducted jointly by the three SAMHSA Centers to provide support to prospective applicants in preparing their applications in response to published grant announcements.

It is anticipated that several SAMHSA grant announcements will be featured at the workshop, including:

Center for Substance Abuse Prevention

Community-Initiated Prevention Interventions

Cooperative Agreements for Parenting and Family Strengthening Prevention Interventions

The Center for Application of Prevention Technologies

State Incentive Grants

Center for Substance Abuse Treatment

Grants to Expand Substance Abuse Treatment Capacity in Targeted Areas of Need

Community Action Grants for Service Systems Change

Grants for the Evaluation of Treatment Models for Persons with Co-occurring Substance Abuse and Mental Health Disorders

Comprehensive Community Treatment Program for the Development of New and Useful Knowledge

Targeted Capacity Expansion —HIV/AIDS

Center for Mental Health Services

Community Action Grants for Service Systems Change

Violence Prevention/Resilience Development School and Community Action Grants

These GFAs can be found at the SAMHSA Web Site at www.SAMHSA.gov following publication in the Federal Register. Potential participants are strongly encouraged to check these resources and be familiar with the GFAs in which they are interested prior to attending the workshop.

The Technical Assistance Workshops will be held at the following locations: Workshop I—March 2 & 3, Ritz Carlton Hotel Atlanta, GA, 404-659-0400 or 800-241-3333; Workshop II—March 7 & 8, Westin Hotel, Kansas City, MO, 816-474-4400 or 800-228-3000; and Workshop III—March 9 & 10, The Wyndham Emerald, San Diego, CA, 619-239-4500.

Registration and check-in at each site will be at 7:30 a.m.; workshop hours on the first day are 8:30 a.m.-5:00 p.m. On the second day, the grant writing session will take place from 8:30 a.m.-3:30 p.m.

Preliminary Agenda Highlights for the TA Workshops include: (1) Review of SAMHSA programs and priorities; (2) Provision of related resource materials; (3) Technical/practical aspects of the grants application process including application requirements, improving applications, instruction in completing required forms, submission, review, and award procedures; (4) Separate breakout sessions for discussion of specific grant announcements; and (5) Opportunity for questions and answers. Plans are underway to include a brief overview at each of the workshops on the Health Resources and Services Administration and the Centers for Disease Control and Prevention programs. On the second day, there will be a session designed to provide further assistance with grant writing and application preparation.

TA Workshop Arrangements and Contacts

There is no registration fee for the workshops. Preregistration is strongly encouraged.

Registrants will be responsible for costs associated with their own travel, meals, and lodging. Workshop confirmation will be faxed. For logistical assistance please contact Lisa Wilder by phone at (301) 984-1471, x-361 or by fax at (301) 984-4416. For information regarding the content of the TA Workshops, please contact Ms. C. Danielle Johnson at (301) 443-1249. SAMHSA suggests that the attendees be those persons having the responsibility for conceptualizing and writing the application.

Hotel Information

Participants are responsible for making their own hotel reservations. When calling the hotel, at the numbers listed above, reference the SAMHSA Grantee Workshop. Registrants are urged to make their reservations as soon as possible.

Dated: February 3, 2000.
Richard Kopanda,
Executive Officer, SAMHSA.

[FR Doc. 00-3012 Filed 2-9-00; 8:45 am]

BILLING CODE 4162-20-U